DEPARTMENT OF AGRICULTURE

Rural Utilities Service

Announcement of Grant and Loan Application Deadlines and Funding Levels

AGENCY: Rural Utilities Service, USDA.

ACTION: Notice of solicitation of applications.

SUMMARY: The Rural Utilities Service (RUS) announces its Distance Learning and Telemedicine (DLT) Program grant application window for funding during fiscal year (FY) 2004. In addition, RUS announces the minimum and maximum amounts for DLT grants, combination loan-grants and loans applicable for the fiscal year. The DLT Program regulation (7 CFR 1703, subparts D, E, F and G) has not changed, but this Notice appears in a new format, as mandated by a policy directive issued by the Office of Federal Financial Management (OFFM) of the Office of Management and Budget (OMB), published in the Federal Register on June 23, 2003.

DATES: You may submit completed applications for grants on paper or electronically according to the following deadlines:

• Paper copies must be postmarked and mailed, shipped, or sent overnight no later than April 30, 2004, to be eligible for FY 2004 grant funding. Late applications are not eligible for FY 2004 grant funding.

• Electronic copies must be received by April 30, 2004, to be eligible for FY 2004 grant funding. Late applications are not eligible for FY 2004 grant funding.

• RUS will examine applications for items that would disqualify them from consideration if the applications are submitted on paper by March 31, 2004.

You may submit applications for FY 2004 combination loan-grants and loans at any time.

ADDRESSES: You may obtain application guides and materials for all DLT programs via the Internet at the DLT Web site: http://www.usda.gov/rus/telecom/dlt/dlt.htm. You may also request application guides and materials from RUS by contacting the DLT Branch at (202) 720-0413.

Submit completed paper applications for grants, combination loan-grants or loans to the Rural Utilities Service, U.S. Department of Agriculture, 1400 Independence Ave., SW., Room 2845, STOP 1550, Washington, DC 20250-1550. Applications should be marked “Attention: Director, Advanced Services Division, Telecommunications Program.”

Submit electronic grant or combination loan-grant applications at http://www.grants.gov (Grants.gov), following the instructions you find on that Web site.

FOR FURTHER INFORMATION CONTACT: Orren E. Cameron, III, Director, Advanced Services Division, Rural Utilities Service, U.S. Department of Agriculture, telephone: (202) 720-0413, fax: (202) 720-1051.

SUPPLEMENTARY INFORMATION:

Overview

Federal Agency: Rural Utilities Service (RUS).

Funding Opportunity Title: Distance Learning and Telemedicine Loans and Grants.

Announcement Type: Initial announcement.

Catalog of Federal Domestic Assistance (CFDA) Number: 10.855.

Dates: You may submit completed applications for grants on paper or electronically according to the following deadlines:

• Paper copies must be postmarked and mailed, shipped, or sent overnight no later than April 30, 2004, to be eligible for FY 2004 grant funding. Late applications are not eligible for FY 2004 grant funding.

• Electronic copies must be received by April 30, 2004, to be eligible for FY 2004 grant funding. Late applications are not eligible for FY 2004 grant funding.

• RUS will examine applications for items that would disqualify them from consideration if the applications are submitted on paper by March 31, 2004.

You may submit applications for FY 2004 combination loan-grants and loans at any time.

Items in Supplementary Information

I. Funding Opportunity: Brief Introduction to the DLT Program

II. Award Information: Available Funds, Minimum and Maximum Amounts

III. Eligibility Information: Who Is Eligible, What Kinds of Projects Are Eligible, What Criteria Determine Basic Eligibility

IV. Application and Submission Information: Where to Get Application Materials, What Constitutes a Completed Application, How and Where to Submit Applications, Deadlines, Items That Are Eligible

V. Application Review Information: Considerations and Preferences, Scoring Criteria, Review Standards, Selection Information

VI. Award Administration Information: Award Notice Information, Award Recipient Reporting Requirements

VII. Agency Contacts: Web, Phone, Fax, E-Mail, Contact Name

I. Funding Opportunity

Distance learning and telemedicine loans and grants are specifically designed to provide access to education, training and health care resources for people in rural America. The Distance Learning and Telemedicine (DLT) Program (administered by the DLT Branch of the Rural Utilities Service (RUS)) funds the use of advanced telecommunications technologies to help communities meet those needs.

The grants, which are awarded through competitive process, may be used to fund telecommunications, computer networks and related advanced technologies.

Applications for loans and combination loan-grants are not competitively scored. In addition to the items listed for grants, loans and combination loan-grants may be used to fund construction of necessary transmission facilities on a technology-neutral basis. Examples of such facilities include satellite uplinks, microwave towers and associated structures, T-1 lines, DS-3 lines, and other similar facilities. Loan funds may also be used to obtain mobile units and for some building construction. Please see 7 CFR 1703, subparts D, E, F and G for specifics.

This notice has been formatted to conform to a policy directive issued by the Office of Federal Financial Management (OFFM) of the Office of Management and Budget (OMB), published in the Federal Register on June 23, 2003. This notice does not change the DLT Program regulation (7 CFR 1703, subparts D, E, F, and G).

II. Award Information

A. Available Funds

1. General

The Administrator has determined that the following amounts are available for grants, combination loan-grants and loans in FY 2004 under 7 CFR 1703.101(g).

2. Grants

a. $15 million is available for grants. Under 7 CFR 1703.124, the Administrator has determined the maximum amount of an application for a grant in FY 2004 is $500,000 and the minimum amount of a grant is $50,000.

b. Assistance instrument: RUS will execute grant documents appropriate to the project prior to any advance of funds with successful applicants.

3. Combination Loan-Grants

a. $110 million is available for combination loan-grants ($100 million in loans paired with $10 million in grants, i.e., $100 loan: $10 grant ratio). Under 7 CFR 1703.133, the Administrator has determined the maximum amount of an application for a combination loan-grant in FY 2004 is $10 million and the minimum amount of a combination loan-grant is $50,000.

b. RUS will execute grant and loan documents appropriate to the project prior to any advance of funds with successful applicants.

4. Loans

a. $200 million is available for loans. Under 7 CFR 1703.143, the Administrator has determined the maximum amount of an application for a loan in FY 2004 is $10 million and the minimum amount of a loan is $50,000.

b. RUS will execute loan documents appropriate to the project prior to any advance of funds with successful applicants.

B. DLT grants, combination loan-grants and loans cannot be renewed. Award documents specify the term of each award. Applications to extend existing projects are welcomed (grant applications must be submitted during the application window) and will be evaluated as new applications.

III. Eligibility Information

A. Who Is Eligible for Grants, Combination Loan-Grants and Loans? (See 7 CFR 1703.103)

1. Only entities legally organized as one of the following are eligible for DLT financial assistance:

a. An incorporated organization or partnership,

b. An Indian tribe or tribal organization, as defined in 25 U.S.C. 450b (b) and (c),

c. A State or local unit of government,

d. A consortium, as defined in 7 CFR 1703.102, or

e. Other legal entity, including a private corporation organized on a for-profit or not-for profit basis.

2. Individuals are not eligible for DLT financial assistance directly.

3. Electric and telecommunications borrowers under the Rural Electrification Act of 1936 (7 U.S.C. 950aaa et seq.) are not eligible for grants or combination loan-grants. They are, however, eligible for loans (see 7 CFR 1703.101(f)).

B. What Are the Basic Eligibility Requirements for a Project?

1. Required matching contributions (grants only). See paragraphs IV.B.2.b and IV.B.2.g of this notice for information on documentation of matching contributions. Please see 7 CFR 1703.125(g) for the requirement.

a. Grant applicants must demonstrate a matching contribution, in cash or in kind (new, non-depreciated items), of at least fifteen (15) percent of the total amount of RUS financial assistance requested. Matching contributions must be used for eligible purposes of DLT grant assistance (see 7 CFR 1703.121 and paragraph IV.G of this notice). Greater amounts of eligible matching contributions may increase an applicant's score (see 7 CFR 1703.126(b)(4) and paragraph V.B.2.d of this notice).

b. Combination loan-grants and loans do not require matching contributions.

2. The DLT program is designed to flow the benefits of distance learning and telemedicine to residents of rural America (see 7 CFR 1703.103(a)(2)). Therefore, in order to be eligible, applicants must propose to use the financial assistance to:

a. Operate a rural community facility; or

b. Deliver distance learning or telemedicine services to entities that operate a rural community facility or to residents of rural areas, at rates calculated to ensure that the benefit of the financial assistance is passed through to such entities or to residents of rural areas.

3. If a loan applicant is a telecommunications or electric borrower under the Rural Electrification Act of 1936 (7 U.S.C. 901-950aa, et seq.), they may either pass the loan along to an entity that will fulfill paragraph III.B.2 of this notice; or acquire, install, extend or improve a distance learning or telemedicine facility. Please see 7 CFR 1703.101(f).

4. Rurality. a. All projects that applicants propose to fund with RUS financial assistance must meet a minimum rurality threshold, to ensure that benefits from the projects flow to rural residents. The minimum eligibility score is 20 points. Please see paragraphs IV.B.2.g and V.B.2 of this notice. In addition, please see 7 CFR 1703.126(a)(2) for an explanation of the rurality scoring and eligibility criterion.

b. Each application must apply the following criteria to each of its end-user sites, and hubs that are also proposed as end-user sites, in order to determine a rurality score. The rurality score is the average of all end-user sites' rurality scores.

Criterion | Character | Population | DLT points
Exceptionally Rural Area | Area not within a city, village or borough | ≤5000 | 45
Rural Area | Incorporated or unincorporated area | >5000 and ≤10,000 | 30
Mid-Rural Area | Incorporated or unincorporated area | >10,000 and ≤20,000 | 15
Urban Area | Incorporated or unincorporated area | >20,000 | 0

c. Grants only: The rurality score is also one of the competitive scoring criteria applied to grant applications.

5. Projects located in areas covered by the Coastal Barrier Resources Act (16 U.S.C. 3501 et seq.) are not eligible for any financial assistance from the DLT Program. Please see 7 CFR 1703.123(a)(11) for grants, 7 CFR 1703.132(a)(5) for combination loan-grants and 7 CFR 1703.142(b)(3) for loans.

C. See paragraph IV.B of this notice for a discussion of the items that make up a completed application. You may also refer to 7 CFR 1703.125 for completed grant application items, 7 CFR 1703.134 for completed combination loan-grant application items, and 7 CFR 1703.144 for completed loan application items.

IV. Application and Submission Information

A. Where to get application information. Application guides, copies of necessary forms and samples, and the DLT Program regulation are available from these sources:

1. The Internet: http://www.usda.gov/rus/telecom/dlt/dlt.htm, or http://www.grants.gov.

2. The DLT Branch of RUS for paper copies of these materials: (202) 720-0413.

B. What constitutes a completed application? 1. Detailed information on each item in the table in paragraph IV.B.6 of this notice can be found in the sections of the DLT Program regulation listed in the table, and the appropriate DLT application guide(s). Applicants are strongly encouraged to read and apply both the regulation and the application guide(s). This notice does not change the requirements for a completed application for any form of DLT financial assistance specified in the DLT Program regulation.

a. When the table refers to a narrative, it means a written statement, description or other written material prepared by the applicant, for which no form exists. RUS recognizes that each project is unique and requests narratives of varying complexity to allow applicants to fully explain their request for financial assistance.

b. When documentation is requested, it means letters, certifications, legal documents or other third party documentation that provide evidence that the applicant meets the listed requirement. For example, to confirm Enterprise Zone (EZ) designations, applicants use various types of documents, such as letters from appropriate government bodies and copies of appropriate USDA Web pages. Leveraging documentation sometimes include letters of commitment from other funding sources, or other documents specifying in-kind donations. Evidence of legal existence is sometimes proven by applicants who submit articles of incorporation. None of the foregoing examples is intended to limit the types of documentation that may be submitted to fulfill a requirement. DLT program regulations and the application guides provide specific guidance on each of the items in the table.

2. The DLT application guides and ancillary materials provide all necessary forms and sample worksheets.

3. While the table in paragraph IV.B.6 of this notice includes all items of a completed application for each program, RUS may ask for additional or clarifying information if the submitted item(s) do not fully address a criterion or other provision. RUS will communicate with applicants if the need for additional information arises.

4. Submit the required application items in the listed order.

5. DUNS Number (new for FY 2004). As required by the OMB, all applicants for grants or combination loan-grants must now supply a Dun and Bradstreet Data Universal Numbering System (DUNS) number when applying. The Standard Form 424 (SF-424) contains a field for you to use when supplying your DUNS number. Obtaining a DUNS number costs nothing and requires a short telephone call to Dun and Bradstreet. Please see the DLT Web site or Grants.gov for more information on how to obtain a DUNS number or how to verify your organization's number.

6. Table of Required Elements of a Completed Application, by Program:

Application item | Required items by application type: Grants (7 CFR 1703.125 and CFR 1703.126) | Required items by application type: Combination loan-grants (7 CFR 1703.134 and 7 CFR 1703.135) | Required items by application type: Loans (7 CFR 1703.144 and 7 CFR 1703.145)
SF-424, completely filled out (Application for Federal Assistance form) | Yes | Yes | Yes.
Executive Summary (narrative) | Yes | Yes | Yes.
Objective Scoring Worksheet | Yes | No | No.
Rural Calculation Table | Yes | Yes | Yes.
National School Lunch Program Determination | Yes | No | No.
EZ/EC or Champion Communities designation | Yes (documentation) | No | No.
Documented Need for Services/Benefits Derived from Services | Yes (narrative & documentation, if necessary) | No | No.
Innovativeness of the Project | Yes (narrative & documentation) | No | No.
Budget (table or other appropriate format) | Yes | Yes | Yes.
Leveraging Evidence and Funding Commitments from All Sources | Yes (documentation) | Yes (no leveraging evidence required) | Yes (no leveraging evidence required).
Financial Information/Sustainability (narrative) | Yes | Yes | Yes.
Pro Forma Financial Data | No | Yes (documentation) | Yes (documentation).
Ability to execute a note with maturity > 1 year | No | Yes (documentation) | Yes (documentation).
Revenue/expense reports and balance sheet (table or other appropriate format) | No | Yes for educational institutions/consortia. (documentation) | Yes for educational institutions/consortia. (documentation).
Income statement and balance sheet (table or other appropriate format) | No | Yes for medical institutions/consortia. (documentation) | Yes for medical institutions/consortia. (documentation).
Balance sheet (table or other appropriate format) for a partnership, corporation, company, other entity; or consortia of such entities | No | Yes (documentation) | Yes (documentation).
Property list (collateral)/adequate security | No | Yes (documentation) | Yes (documentation).
Depreciation schedule | No | Yes (documentation) | Yes (documentation).
Revenue Source(s) for each hub and end-user site | No | Yes (documentation) | Yes (documentation).
Economic analysis of rates—if applicant proposes to provide services to another entity | No | Yes (documentation) | Yes (documentation).
System/Project Cost Effectiveness (narrative & documentation) | Yes | No | No.
Telecommunications System Plan (narrative & documentation; maps or diagrams, if appropriate) | Yes | Yes | Yes.
Proposed Scope of Work (narrative or other appropriate format) | Yes | Yes | Yes.
Statement of Experience (narrative 3-page, single-spaced limit) | Yes | Yes | Yes.
Consultation with the USDA State Director, Rural Development (documentation) | Yes | No | No.
Application conforms with State Strategic Plan per USDA State Director, Rural Development, (if plan exists) (documentation) | Yes | No | No.
Certifications:
Equal Opportunity and Nondiscrimination | Yes | Yes | Yes.
Architectural Barriers | Yes | Yes | Yes.
Flood Hazard Area Precautions | Yes | Yes | Yes.
Uniform Relocation Assistance and Real Property Acquisition Policies Act of 1970 | Yes | Yes | Yes.
Drug-Free Workplace | Yes | Yes | Yes.
Debarment, Suspension, and Other Responsibility Matters—Primary Covered Transactions | Yes | Yes | Yes.
Lobbying for Contracts, Grants, Loans, and Cooperative Agreements | Yes | Yes | Yes.
Non Duplication of Services | Yes | Yes | Yes.
Environmental Impact/Historic Preservation
Certification | Yes | Yes | Yes.
Questionnaire | No | Yes, if project involves construction | Yes, if project involves construction.
Federal Obligations on Delinquent Debt | Yes | Yes | Yes.
Evidence of Legal Authority to Contract with the Government (documentation) | Yes | Yes | Yes.
Evidence of Legal Existence (documentation) | Yes | Yes | Yes.
Supplemental Information (if any) (narrative, documentation or other appropriate format) | Optional | Optional | Optional.

C. How many copies of an application are required? 1. Applications submitted on paper (grants, combination loan-grants and loans): a. Submit the original application and two (2) copies to RUS. b. Submit one (1) additional copy to the State government point of contact (if one has been designated) at the same time as you submit the application to RUS. See http://www.whitehouse.gov/omb/grants/spoc.html for an updated listing of State government points of contact or contact the DLT branch.

2. Electronically submitted applications (grants and combination loan-grants):

a. The additional paper copies for RUS specified in 7 CFR 1703.128(c) and 7 CFR 1703.136(b) are not necessary if you submit the application electronically through Grants.gov.

b. Submit one (1) copy to the State government point of contact (if one has been designated) at the same time as you submit the application to RUS. See http://www.whitehouse.gov/omb/grants/spoc.html for an updated listing of State government points of contact.

D. How and where to submit an application. Grant and combination loan-grant applications may be submitted on paper or electronically. RUS cannot accept electronic loan applications at this time; please submit loan applications on paper.

1. Submitting applications on paper (grants, combination loan-grants or loans).

a. Address paper applications for grants, combination loan-grants or loans to the Rural Utilities Service, U.S. Department of Agriculture, 1400 Independence Ave., SW., Room 2845, STOP 1550, Washington, DC 20250-1550. Applications should be marked “Attention: Director, Advanced Services Division, Telecommunications Program.”

b. For grants only: paper applications must show proof of mailing or shipping consisting of one of the following:

(i) A legibly dated U.S. Postal Service (USPS) postmark;

(ii) A legible mail receipt with the date of mailing stamped by the USPS; or

(iii) A dated shipping label, invoice, or receipt from a commercial carrier. c. Due to screening procedures at the Department of Agriculture, packages arriving via the USPS are irradiated, which can damage the contents. RUS encourages applicants to consider the impact of this procedure in selecting their application delivery method.

2. Electronically submitted applications (applies only to grants and combination loan-grants).

a. Applications will not be accepted via facsimile machine transmission or electronic mail.

b. Electronic applications for grants or combination loan-grants will be accepted if submitted through the Federal government's Grants.gov initiative at http://www.grants.gov.

c. If you want RUS to review your application for items that would disqualify it for further consideration(see paragraph V.D of this notice), please do not use Grants.gov. Submit your application on paper. Grants.gov does not yet support such pre-application reviews.

d. How to use Grants.gov: (i) Navigate your Web browser to http://www.grants.gov.

(ii) Follow the instructions on that Web site to find grant or combination loan-grant information.

(iii) Download a copy of an application package.

(iv) Complete the package off-line.

(v) Upload and submit the application via the Grants.gov Web site.

e. Grants.gov contains full instructions on all required passwords, credentialing and software.

f. RUS encourages applicants who wish to apply through Grants.gov to submit their applications in advance of the deadline, in the case of grants.

g. If a system problem occurs or you have technical difficulties with an electronic application, please use the customer support resources available at the Grants.gov Web site.

h. New information for FY 2004 grant and combination loan-grant applications. The Distance Learning and Telemedicine Branch of RUS now offers applicants the opportunity to submit grant (and combination loan-grant) applications online through Grants.gov (http://www.grants.gov). The Web site is part of the Government-wide e-Government project under the President's Management Agenda. In addition to online application submission, Grants.gov offers applicants a fully searchable database of Federal grant opportunities. All Federal grant-making organizations are required to post their grant opportunities at Grants.gov, beginning with FY 2004. You can find more information on e-grants at http://www.usda.gov/rus/telecom/dlt/dlt.htm and http://www.grants.gov.

(i) Central Contractor Registry. In addition to the DUNS number now required of all grant applicants, submitting an application through Grants.gov requires that you list your organization in the Central Contractor Registry (CCR). Setting up a CCR listing (a one-time procedure with annual updates) takes up to five business days, so RUS strongly recommends that you obtain your organization's DUNS number and CCR listing well in advance of the deadline specified in this notice.

(ii) Credentialing and authorization of applicants. Grants.gov will also require some one-time credentialing and online authentication procedures. These procedures may take several business days to complete, further emphasizing the need for early action to complete the sign-up, credentialing and authorization procedures at Grants.gov before you submit an application at that Web site.

E. Deadlines. 1. Grants only: Paper applications must be postmarked and mailed, shipped, or sent overnight no later than April 30, 2004, to be eligible for FY 2004 grant funding. Late applications are not eligible for FY 2004 grant funding.

2. Electronic grant applications must be received by April 30, 2004, to be eligible for FY 2004 funding. Late applications are not eligible for FY 2004 grant funding.

3. RUS will examine applications for items that would disqualify them from consideration if the applications are submitted on paper by March 31, 2004.

4. Applications for FY 2004 combination loan-grants (paper or electronic) and loans (paper only) may be submitted at any time.

F. Intergovernmental Review. All DLT programs are subject to Executive Order 12372, “Intergovernmental Review of Federal Programs.” As stated in paragraph IV.C of this notice, a copy of a DLT grant or combination loan-grant application must be submitted to the State single point of contact if one has been designated. Please see http://www.whitehouse.gov/omb/grants/spoc.html to determine whether your state has a single point of contact.

G. Funding Restrictions. 1. Eligible purposes. a. End-user sites may receive financial assistance; hub sites (rural or non-rural) may also receive financial assistance if they are necessary to provide DLT services to end-user sites. Please see 7 CFR 1703.101(h).

b. To fulfill the policy goals laid out for the DLT Program in 7 CFR 1703.101, the following table lists purposes for financial assistance and whether each purpose is eligible for the assistance. Please consult the application guide(s) and the regulations (7 CFR 1703.102 for definitions, in combination with the portions of the regulation cited in the table for each type of financial assistance) for detailed requirements for the items in the table.

| Grants (7 CFR 1703.121 and 7 CFR 1703.123) | Combination loan-grants (7 CFR 1703.131 and 7 CFR 1703.132) | Loans (7 CFR 1703.141) and 7 CFR 1703.142)
Lease or purchase of eligible DLT equipment and facilities | Yes—equipment only | Yes | Yes.
Acquire instructional programming | Yes | Yes | Yes.
Technical assistance, develop instructional programming, engineering or environmental studies | Yes, not to exceed 10% of the grant | Yes, not to exceed 10% of the financial assistance | Yes, not to exceed 10% of the financial assistance.
Medical or education equipment or facilities necessary to the project | No | Yes | Yes.
Vehicles using distance learning or telemedicine technology to deliver services | No | Yes | Yes.
Teacher-student links located at the same facility | No, if this is the sole project objective | Yes, if linking is part of a broader DLT network that meets other combination loan-grant purposes | Yes, if linking is part of a broader DLT network that meets other loan purposes.
Links between medical professionals located at the same facility | No, if this is the sole project objective | Yes, if linking is part of a broader DLT network that meets other combination loan-grant purposes | Yes, if linking is part of a broader DLT network that meets other loan purposes.
Site development or building alteration | No | Yes, if the activity meets other combination loan-grant purposes | Yes, if the activity meets other loan purposes.
Land or building purchase | No | Yes, if the activity meets other combination loan-grant purposes | Yes, if necessary to the overall project and incidental to the loan amount.
Building construction | No | Yes, if the activity meets other combination loan-grant purposes | Yes, if necessary to the overall project and incidental to the loan amount.
Acquiring telecommunications transmission facilities | No | Yes, if other telecommunications carriers will not install in a reasonable time period & at an economically viable cost to the project | Yes, if other telecommunications carriers will not install in a reasonable time period & at an economically viable cost to the project.
Salaries, wages, benefits for medical or educational personnel | No | No | No.
Salaries/administrative expenses of applicant or project | No | No | No.
Recurring project costs or operating expenses | No (equipment leases are eligible) | No (equipment & facility leases are eligible) | Yes, for the first two years after approval (leases are not recurring project costs).
Equipment to be owned by the LEC or other telecommunications service provider, if the provider is the applicant | Yes | Yes | Yes.
Duplicate distance learning or telemedicine services | No | No | No.
Any project that, for its success, depends on additional DLT financial assistance or other financial assistance that is not assured | No | No | No.
Application preparation costs | No | No | No.
Other project costs not covered in regulation | No | No | Yes, for the first two years of the operation.
Costs & facilities providing distance learning broadcasting | No | No | Yes; financial assistance amount directly proportional to the distance learning portion of use.
Reimburse applicant or others for costs incurred prior to RUS” receipt of completed application | No | No | No.

2. Eligible Equipment & Facilities. Please see 7 CFR 1703.102 for definitions of eligible equipment, eligible facilities and telecommunications transmission facilities as used in the table above.

V. Application Review Information

A. Special Considerations or Preferences

1. American Samoa, Guam, Virgin Islands, and Northern Mariana Islands applications are exempt from the matching requirement up to a match amount of $200,000 (see 48 U.S.C. 1469a; 91 Stat. 1164).

2. Related Preferences: 7 CFR 1703.112 directs that an RUS telecommunications borrower will receive expedited consideration and determination of a loan application or advance under the Rural Electrification Act of 1936 (7 U.S.C. 901-950aa, et seq.) if the loan funds in question are to be used in conjunction with a DLT grant, loan or combination loan-grant (See 7 CFR 1737 for loans and 7 CFR 1744 for advances).

B. Criteria

1. Grant applications are scored competitively and subject to the criteria listed below. Combination loan-grants and loan applications are not scored competitively. However, they are evaluated on the basis of technical, financial, economic and other criteria. Please see paragraph IV.B.2.g of this notice for the items that will be evaluated for a combination loan-grant or loan application, and paragraph V.B.3.b. of this notice for a brief listing of evaluation standards.

2. Grant application scoring criteria (total possible points: 235) See 7 CFR 1703.125 for the items that will be reviewed during scoring, and 7 CFR 1703.126 for scoring criteria.

a. Need for services proposed in the application, and the benefits that will be derived if the application receives a grant (up to 55 points).

b. Rurality of the proposed service area (up to 45 points).

c. Percentage of students eligible for the National School Lunch Program (NSLP) in the proposed service area (demonstrates economic need of the area) (up to 35 points).

d. Leveraging resources above the required matching level (up to 35 points). Please see paragraph III.B.1.a of this notice for a brief explanation of matching contributions.

e. Level of innovation demonstrated by the project (up to 15 points).

f. System cost-effectiveness (up to 35 points).

g. Project overlap with Empowerment Zone, Enterprise Communities or Champion Communities designations (up to 15 points).

C. Review Standards

1. Grants. In addition to the scoring criteria that rank applications against each other, RUS evaluates grant applications for possible awards on the following items, according to 7 CFR 1703.127:

a. Financial feasibility.

b. Technical considerations. If the application contains flaws that would prevent the successful implementation, operation or sustainability of a project, RUS will not award a grant.

c. Other aspects of proposals that contain inadequacies that would undermine the ability of the project to comply with the policies of the DLT Program.

2. Combination loan-grants and loans.

a. RUS evaluates applications' financial feasibility using the following information. Please see paragraph IV.B.g of this of this notice for the items that constitute a completed combination loan-grant or loan application. Also, see 7 CFR 1703 Subpart F for combination loan-grants and 7 CFR 1703 Subpart G for loans:

(i) Applicant's financial ability to compete the project;

(ii) Project feasibility;

(iii) Applicant's financial information;

(iv) Projects sustainability;

(v) Ability to repay the loan portion of a combination loan-grant, including revenue sources;

(vi) Collateral for which the applicant has perfected a security interest; and

(vii) Adequate security for a loan or the loan portion of a combination loan-grant.

b. Services to be provided by the project.

c. Project cost.

d. Project design.

e. Other characteristics.

D. As a courtesy, RUS will examine, provide comment, and return applications that include items that would disqualify them from further consideration for modification, if the applications are submitted by March 31, 2004. If you want RUS to examine your application in this manner, please submit your application on paper. Grants.gov does not currently support this kind of pre-application review.

E. Selection Process

1. Grants. Grant applications are ranked by final score, and by application purpose (education or medical). RUS selects applications based on those rankings, subject to the availability of funds. RUS may allocate grant awards between medical and educational purposes, but is not required to do so. In addition, RUS has the authority to limit the number of applications selected in any one State during a fiscal year. See 7 CFR 1703.127.

2. Combination loan-grants and loans. Based on the review standards listed above and in the DLT Program regulation, RUS will process successful loan applications on a first-in, first-out basis, dependent upon the availability of funds. Please see 7 CFR 1703.135 for combination loan-grant application processing and selection; and 7 CFR 1703.145 for loan application processing and selection.

VI. Award Administration Information

A. Award Notices

RUS recognizes that each funded project is unique, and therefore may attach conditions to different projects' award documents.

1. Grants. RUS generally notifies applicants whose projects are selected for awards by faxing an award letter. RUS follows the award letter with a grant agreement that contains all the terms and conditions for the grant. An applicant must execute and return the grant agreement, accompanied by any additional items required by the grant agreement, within 120 days of the selection date.

2. Combination loan-grants and loans.

a. RUS generally sends a letter defining the characteristics of a loan (or the loan portion of a combination loan-grant) such as the term, interest rate and any conditions on the loan. An applicant must communicate agreement with the characteristics of the loan to RUS before a loan or combination loan-grant moves into the approval process. b. After receiving the applicant's agreement on the loan characteristics, RUS supplies an approval letter to the applicant. Loan documents (and a grant agreement, if applicable) are then sent by RUS. The applicant has 120 days to sign and return the documents, along with any additional material required by the loan or grant documents.

B. Administrative and National Policy Requirements

The items listed in paragraph IV.B.2.g of this notice, and the DLT Program regulation, application guides and accompanying materials implement the appropriate administrative and national policy requirements.

C. Reporting

1. Performance reporting. All recipients of DLT financial assistance must provide annual performance activity reports to RUS until the project is complete and the funds are expended. A final performance report is also required; the final report may serve as the last annual report. The final report must include an evaluation of the success of the project in meeting DLT Program objectives. See 7 CFR 1703.107.

2. Financial reporting. All recipients of DLT financial assistance must provide an annual audit, beginning with the first year a portion of the financial assistance is expended. Audits are governed by United States Department of Agriculture audit regulations. Please see 7 CFR 1703.108.

VII. Agency Contacts

A. Web site: http://www.usda.gov/rus/telecom/dlt/dlt.htm. The RUS’ DLT Web site maintains up-to-date resources and contact information for DLT programs.

B. Phone: 202-720-0413.

C. Fax: 202-720-1051.

D. E-mail: dltinfo@usda.gov.

E. Main point of contact: Orren E. Cameron, III, Director, Advanced Services Division, Rural Utilities Service, U.S. Department of Agriculture.

Dated: February 23, 2004.
Hilda Gay Legg,
Administrator, Rural Utilities Service.

[FR Doc. 04-4322 Filed 2-27-04; 8:45 am]

BILLING CODE 3410-15-P